DEPARTMENT OF TRANSPORTATION

National Highway Traffic Safety Administration

[Docket No. NHTSA 2003-15690; Notice 2]

General Motors North America, Inc.; Grant of Application for Decision of Inconsequential Noncompliance

General Motors North America, Inc. (GM) has determined that certain 2001-2003 Oldsmobile Silhouettes and 2003 Pontiac Azteks did not meet requirement S5.2 of Federal Motor Vehicle Safety Standard (FMVSS) No. 120—“Tire Selection and Rims for Motor Vehicles Other Than Passenger Cars.”

Pursuant to 49 U.S.C. 30118(d) and 30120(h), GM has petitioned for a determination that this noncompliance is inconsequential to motor vehicle safety and has filed an appropriate report pursuant to 49 CFR Part 573, “Defect and Noncompliance Reports.”

Notice of receipt of the application was published, with a 30-day comment period, on August 15, 2003 in the Federal Register (68 FR 48992). NHTSA received no comments.

GM produced 55,825 model year 2001-2003 Oldsmobile Silhouettes and 15,343 model year 2003 Pontiac Azteks, totaling 71,168 vehicles. These vehicles are classified as multipurpose passenger vehicles (MPVs). According to GM, the rims fitted to the MPVs were originally released for use on passenger cars, and meet all the requirements of FMVSS No. 110, “Tire Selection and Rims—Passenger Cars.” FMVSS No. 110 does not require marking the rims with either the designation of the source of the rims' dimensions or the symbol “DOT.” When the rims were subsequently released for use on the subject MPVs, they were evaluated for the alternative usage with respect to performance requirements, but they inadvertently were not reviewed with respect to the marking requirements of FMVSS No. 120. These rims meet all requirements of FMVSS No. 120, except the marking requirements of S5.2(a) and S5.2(c), which require the designation of the source of the rims' dimensions, and use of the symbol “DOT,” respectively.

Paragraph S5.2 of FMVSS No. 120 requires that each rim be marked with specific information, including a designation indicating the source of the rim's published nominal dimensions and the symbol “DOT,” constituting a certification by the manufacturer of the rim that the rim complies with all applicable motor vehicle safety standards.

The agency concludes that the noncompliance is inconsequential to motor vehicle safety. All other informational markings including the correct rim size designation, as required by FMVSS No. 120, are present. While the absence of the letter “T” could increase the possibility of mismatching rims to tires, GM stated and the agency verified that the dimensions of these rims, as published in the Tire and Rim Association Yearbook (T), and by European Tyre and Rim Technical Organisation and the Japan Automobile Tire Manufacturers Association, Inc., are essentially identical. In addition, the rims of the affected vehicles are properly matched and appropriate with respect to all performance requirements and the vehicle placards correctly indicate the rim sizes.

In consideration of the foregoing, NHTSA has decided that the applicant has met its burden of persuasion that the noncompliance it describes is inconsequential to motor vehicle safety. Accordingly, GM's application is hereby granted, and the applicant is exempted from the obligation of providing notification of, and a remedy for, the noncompliance.

Authority: (49 U.S.C. 301118, 301120; delegations of authority at 49 CFR 1.50 and 501.8).

Issued on: January 14, 2004.
Stephen R. Kratzke,
Associate Administrator for Rulemaking.

[FR Doc. 04-1132 Filed 1-16-04; 8:45 am]

BILLING CODE 4910-59-P